DEPARTMENT OF COMMERCE

National Oceanic and Atmospheric Administration

50 CFR Part 648

[Docket No. 151211999-6343-02]

RIN 0648-XF313

Fisheries of the Northeastern United States; Northeast Multispecies Fishery; Trip Limit Increase for the Small Vessel Category of the Common Pool Fishery

AGENCY: National Marine Fisheries Service (NMFS), National Oceanic and Atmospheric Administration (NOAA), Commerce.

ACTION: Temporary rule; inseason adjustment.

SUMMARY: This action increases the Gulf of Maine (GOM) cod trip limit for Northeast multispecies common pool small vessel category vessels for the remainder of the 2016 fishing year. This increase corrects a previous action that did not raise the small vessel category trip limit. Increasing the possession and trip limits is intended to provide the common pool fishery with additional fishing opportunities through the end of the fishing year.

DATES: The trip limit increase is effective March 22, 2017, through April 30, 2017.

FOR FURTHER INFORMATION CONTACT: Spencer Talmage, Fishery Management Specialist, 978-281-9232.

SUPPLEMENTARY INFORMATION: The regulations at § 648.86(o) authorize the Regional Administrator to adjust the possession and trip limits for common pool vessels in order to help prevent the overharvest or underharvest of the common pool quotas.

On March 16, 2017, the common pool Gulf of Maine (GOM) cod and haddock trip limits were increased (82 FR 14478, March 21, 2017). In this action, we incorrectly stated that the small vessel category trip limit of GOM cod was unchanged. However, this trip limit should have increased from 25 lb (11.34 kg) per trip to 100 lb (45.36 kg) per trip. To correct this error and allow the common pool fishery to catch more of its quota for GOM cod, effective March 22, 2017, the trip limit of GOM cod for the small vessel category is increased to 100 lb (45.36 kg) per trip. Vessels in the small vessel category are still held to the combined 300-lb (136.1 kg) trip limit for cod, haddock, and yellowtail flounder. Common pool groundfish vessels that have declared their trip through the vessel monitoring system (VMS) or interactive voice response system, and crossed the VMS demarcation line prior to March 22, 2017, may land the new trip limit for that trip.

Weekly quota monitoring reports for the common pool fishery can be found on our Web site at: http://www.greateratlantic.fisheries.noaa.gov/ro/fso/MultiMonReports.htm. We will continue to monitor common pool catch through vessel trip reports, dealer-reported landings, VMS catch reports, and other available information and, if necessary, we will make additional adjustments to common pool management measures.

Classification

This action is required by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because it would be impracticable and contrary to the public interest.

The regulations at § 648.86(o) authorize the Regional Administrator to adjust the Northeast multispecies possession and trip limits for common pool vessels in order to help prevent the overharvest or underharvest of the pertinent common pool quotas. The error in a recent inseason action to increase the GOM cod and haddock trip limits was only recently discovered. As a result, the time necessary to provide for prior notice and comment, and a 30-day delay in effectiveness, would prevent NMFS from implementing the necessary trip limit correction in a timely manner, which could prevent the fishery from achieving the OY, and cause negative economic impacts to the common pool fishery.

Authority: 16 U.S.C. 1801 et seq.

Dated: March 22, 2017.
Karen H. Abrams,
Acting Deputy Director, Office of Sustainable Fisheries, National Marine Fisheries Service.

[FR Doc. 2017-05980 Filed 3-22-17; 4:15 pm]

BILLING CODE 3510-22-P